DEPARTMENT OF JUSTICE

Parole Commission

Public Announcement

Pursuant To The Government In the Sunshine Act (Pub. L. 94-409; 5 U.S.C. 552b)

Agency Holding the Meeting: Department of Justice, United States Parole Commission.

Date and Time: 11 a.m., Thursday, August 28, 2008.

Place: U.S. Parole Commission, 5550 Friendship Boulevard 4th Floor, Chevy Chase, Maryland 20815.

Status: Closed.

Matters Considered: The following matter will be considered during the closed meeting: Review of the appointment of a hearing examiner under 18 U.S.C. 4204(a)(2)(A).

Agency Contact: Thomas W. Hutchison, Chief of Staff, United States Parole Commission, (301)492-5990.

Dated: August 20, 2008.
Rockne Chickinell,
General Counsel, U.S. Parole Commission.

[FR Doc. E8-19851 Filed 8-26-08; 8:45 am]

BILLING CODE 4410-31-M